DEPARTMENT OF STATE

[Public Notice 7983]

U.S. Department of State Advisory Committee on Private International Law (ACPIL): Notice of Public Meeting of the Study Group on International Arbitration and Conciliation

The Office of the Assistant Legal Adviser for Private International Law, Department of State, hereby gives notice of a public meeting of the Study Group on International Arbitration and Conciliation. A Working Group of the United Nations Commission on International Trade Law (UNCITRAL) is currently developing an instrument on transparency in treaty-based investor-State arbitration. The Working Group, which has held four previous sessions on this topic, will convene October 1-5, 2012 in Vienna, Austria, to continue a second reading of draft rules on transparency. It is expected that the discussion will cover both the content of the proposed transparency standards as well as the scope of the application of new transparency rules. Relevant documents may be accessed at the UNCITRAL Web site by clicking on the link for Working Group II (http://www.uncitral.org/uncitral/en/commission/working_groups/2Arbitration.html). The purpose of the public meeting is to obtain the views of concerned stakeholders on these topics in advance of the Working Group session. This is not a meeting of the full Advisory Committee.

Time and Place: The meeting will take place on Wednesday, September 19, 2012 from 10:00 a.m. to 1:00 p.m. in Room 240, South Building, State Department Annex 4. Participants should arrive at the Navy Hill gate at the corner of 23rd Street NW and D Street NW before 9:45 a.m. for visitor screening. Persons arriving later will need to make arrangements for entry using the contact information provided below. If you are unable to attend the public meeting and would like to participate from a remote location, teleconferencing will be available.

Public Participation: This meeting is open to the public, subject to the capacity of the meeting room. Access to Navy Hill is strictly controlled. For pre-clearance purposes, those planning to attend in person are requested to email or phone Tricia Smeltzer (smeltzertk@state.gov, 202-776-8423) or Niesha Toms (tomsnn@state.gov, 202-776-8420) and provide your full name, address, date of birth, citizenship, driver's license or passport number, affiliation, and email address. This will greatly facilitate entry. Participants will be met at the Navy Hill gate at 23rd and D Streets NW., and will be escorted to the South Building.

A member of the public needing reasonable accommodation should advise Ms. Smeltzer or Ms. Toms not later than September 12. Requests made after that date will be considered, but might not be able to be fulfilled. If you would like to participate by telephone, please contact Ms. Smeltzer or Ms. Toms to obtain the call-in number and other information.

Personal data are requested pursuant to Public Law 99-399 (Omnibus Diplomatic Security and Antiterrorism Act of 1986), as amended; Public Law 107-56 (USA Patriot Act); and Executive Order 13356. The purpose of the collection is to validate the identity of individuals who enter Department facilities. The data will be entered into the Visitor Access Control System (VACS-D) database. Please see the Security Records System of Records Notice (State-36) at http://www.state.gov/documents/organization/103419.pdf for additional information.

Dated: August 8, 2012.
Keith Loken,
Assistant Legal Adviser, Office of Private International Law, Office of the Legal Adviser, Department of State.

[FR Doc. 2012-20244 Filed 8-16-12; 8:45 am]

BILLING CODE 4710-08-P